DEPARTMENT OF JUSTICE

[AAG/A Order No. 020-2007]

Office of the Inspector General; Privacy Act of 1974; Modified System of Records

The Department of Justice proposes to modify the Office of the Inspector General Investigative Records System, JUSTICE/OIG-001, first published in the Federal Register on March 10, 1992 (57 FR 8476) and thereafter modified by notice published at 65 FR 32125 (May 22, 2000) and 68 FR 22741 (April 29, 2003). The primary purpose of the system is to enable the Department's Office of the Inspector General (OIG) to carry out its responsibilities under the Inspector General Act of 1978, as amended, 5 U.S.C. App. 3, including its responsibility to conduct and supervise investigations relating to programs and operations of the Department. The Department now proposes to modify the system by adding several new routine uses, revising several existing routine uses for consistency with other Department of Justice notices, and rearranging the list of routine uses into a more logical order. In addition, to improve ease of reference the Department is republishing the system notice in its entirety.

The Privacy Act at 5 U.S.C. 552a(e)(4) and (11) provides that the public be given 30 days in which to comment on these proposed changes. The Office of Management and Budget (OMB), which has oversight responsibility under the Act, has 40 days in which to conclude its review of the system. Therefore please submit any comments in writing to Mary Cahill, Management Analyst, Management and Planning Staff, Justice Management Division, Department of Justice, Washington, DC 20530 by August 14, 2007.

As required by 5 U.S.C. 552a(r) and OMB implementing regulations, the Department of Justice has provided a report on the proposed changes to OMB and the Congress.

A modified system description is set forth below.

Dated: June 22, 2007.
Lee J. Lofthus,
Assistant Attorney for Administration.

Department of Justice

Office of the Inspector General

JUSTICE/OIG-001

System Name:

Office of the Inspector General Investigative Records.

Security Classification:

The vast majority of the information in the system is Sensitive but Unclassified. However, there is some classified information as well.

System location:

U.S. Department of Justice, Office of the Inspector General (OIG), 950 Pennsylvania Ave., NW., Washington, DC 20530-0001 and 1425 New York Ave., NW., Suites 7100 and 13100, Washington, DC 20530. During the course of an investigation, records are also kept in the investigations field and area offices, the addresses of which are listed on the OIG's Web site at http://www.usdoj.gov/oig.

Categories of individuals covered by the system:

In connection with its investigative duties, the OIG maintains records on the following categories of individuals:

a. Individuals or entities who are or have been the subject of investigations conducted by the OIG, including current and former employees of the Department of Justice; current and former consultants, contractors, and subcontractors with whom the Department has contracted and their employees; grantees to whom the Department has awarded grants and their employees; and such other individuals or entities whose association with the Department relates to alleged violation(s) of the Department's rules of conduct, the Civil Service merit system, and/or criminal or civil law, which may affect the integrity or physical facilities of the Department.

b. Individuals who are or have been witnesses, complainants, or informants in investigations conducted by the OIG.

c. Individuals or entities who have been identified as potential subjects of or parties to an OIG investigation.

Categories of records in the system:

Information relating to investigations including:

a. Letters, memoranda, and other documents describing complaints or alleged criminal, civil, or administrative misconduct.

b. Investigative files which include: Reports of investigations and related exhibits, statements, affidavits, and records obtained during the investigation.

Authority for maintenance of the system:

Inspector General Act of 1978, as amended, 5 U.S.C. App. 3.

Purpose(s):

The OIG maintains this system of records in order to carry out its responsibilities pursuant to the Inspector General Act of 1978, as amended. The OIG is statutorily directed to conduct and supervise investigations relating to programs and operations of the Department of Justice, to promote economy, efficiency, and effectiveness in the administration of such programs and operations, and to prevent and detect fraud, waste, and abuse in such programs and operations. Accordingly, the records in this system are used in the course of investigating individuals and entities suspected of having committed illegal or unethical acts and in conducting related criminal prosecutions, civil proceedings, and administrative actions.

Routine uses of records maintained in the system, including categories of users and the purposes of such uses:

Records in this system may be disclosed as follows:

(a) To any criminal, civil, or regulatory law enforcement authority (whether federal, state, local, territorial, tribal, or foreign) where the information is relevant to the recipient entity's law enforcement responsibilities.

(b) To any individual or entity when necessary to elicit information that will assist an OIG investigation, inspection, or audit.

(c) To any individual or entity when necessary to elicit information relevant to an OIG decision concerning the hiring, appointment, or retention of an individual; the issuance, renewal, suspension, or revocation of a security clearance; or the letting of a contract.

(d) To appropriate officials and employees of a federal agency or entity which requires information relevant to a decision concerning the hiring, appointment, or retention of an individual; the issuance, renewal, suspension, or revocation of a security clearance; the execution of a security or suitability investigation; the letting of a contract; or the issuance or revocation of a grant or other benefit.

(e) To appropriate officers and employees of state, local territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(f) To federal, state, local, tribal, foreign, or international licensing agencies or associations which require information concerning the suitability or eligibility of an individual for a license or permit.

(g) To a Member of Congress or staff acting upon the Member's behalf when the Member or staff requests the information on behalf of, and at the request of, the individual who is the subject of the record.

(h) In an appropriate proceeding before a court, grand jury, or an administrative or adjudicative body, when the OIG determines that the records are arguably relevant to the proceeding; or in an appropriate proceeding before an administrative or adjudicative body when the adjudicator determines the records to be relevant to the proceeding.

(i) To an actual or potential party to litigation or the party's authorized representative for the purpose of negotiation or discussion of such matters as settlement, plea bargaining, or in informal discovery proceedings.

(j) To the National Archives and Records Administration for purposes of records management inspections conducted under the authority of 44 U.S.C. 2904 and 2906.

(k) To the news media and the public, including disclosures pursuant to 28 CFR 50.2, unless it is determined that release of the specific information in the context of a particular case would constitute an unwarranted invasion of personal privacy.

(l) To complainants and/or victims to the extent necessary to provide such persons with information and explanations concerning the progress and/or results of the investigation or case arising from the matters of which they complained and/or of which they were a victim.

(m) To the Office of the Inspector General for the Department of Homeland Security when necessitated by the transfer of Department of Justice functions and employees to the Department of Homeland Security.

(n) To other federal Offices of Inspector General and/or to the President's Council on Integrity and Efficiency for purposes of conducting the external review process required by the Homeland Security Act.

(o) To contractors, grantees, experts, consultants, students, and others performing or working on a contract, service, grant, cooperative agreement, or other assignment for the Federal Government, who have a need to know such information in order to accomplish an agency function.

(p) To a former employee of the Department of Justice for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(q) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(r) To such recipients and under such circumstances and procedures as are mandated by federal statute or treaty.

(s) To a governmental entity lawfully engaged in collecting law enforcement, law enforcement intelligence, or national security intelligence information for such purposes.

Disclosure to Consumer Reporting Agencies:

Not Applicable.

Policies and practices for storing, retrieving, accessing, retaining, and disposing of records in the system:

Storage:

Information in this system is stored manually in file jackets and electronically in office automation equipment.

Retrievability:

Each OIG investigation is assigned a case number and all records relating to a particular investigation are filed and retrieved by that case number. Records may also be retrievable by the surnames of subjects, witnesses, and/or complainants.

Safeguards:

Information is stored in safes, locked filing cabinets, and office automation equipment in secured rooms or in guarded buildings, and is used only by authorized, screened personnel. Manual records are in locked cabinets or in safes and can be accessed by key or combination formula only. Passwords are required to access the automated data.

Retention and disposal:

Records in this system are retained and disposed of in accordance with the schedule approved by the Archivist of the United States, Job Number NI-60-97-4.

System manager(s) and address:

Office of the General Counsel, Office of the Inspector General, Department of Justice, 950 Pennsylvania Avenue, NW., Room 4726, Washington, DC 20530.

Notification procedure:

Address inquiries to the System Manager listed above.

Record access procedures:

The major part of this system is exempt from this requirement pursuant to 5 U.S.C. 552a(j)(2), (k)(1), and (k)(2). To the extent that this system is not subject to exemption, it is subject to access. A determination as to exemption shall be made at the time a request for access is received. A request for access to records contained in this system shall be made in writing, with the envelope and the letter clearly marked “Privacy Access Request.” Include in the request the full name of the individual involved, his or her current address, date and place of birth, notarized signature (or submitted with date and signature under penalty of perjury), and any other identifying number or information which may be of assistance in locating the record. The requester shall also provide a return address for transmitting the information. Access requests shall be directed to the System Manager listed above.

Contesting record procedures:

The major part of this system is exempted from this requirement pursuant to 5 U.S.C. 552a(j)(2), (k)(1), and (k)(2). To the extent that this system of records is not subject to exemption, it is subject to contest. A determination as to exemption shall be made at the time a request for contest is received. Requesters shall direct their request to the System Manager listed above, stating clearly and concisely what information is being contested, the reason for contesting it, and the proposed amendment to the information.

Record source categories:

The subjects of investigations; individuals with whom the subjects of investigations are associated; current and former Department of Justice officers and employees; Federal, State, local and foreign law enforcement and non-law enforcement agencies; private citizens; witnesses; informants; and public source materials.

Exemptions Claimed for the System:

The Attorney General has exempted this system from subsections (c)(3) and (4); (d); (e)(1), (2), (3), (5) and (8); and (g) of the Privacy Act pursuant to 5 U.S.C. 552a(j)(2). In addition, the system has been exempted from subsections (c)(3), (d), and (e)(1), pursuant to subsections (k)(1) and (k)(2). Rules have been promulgated in accordance with the requirements of 5 U.S.C. 553(b), (c) and (e), and have been published in the Federal Register. See 28 CFR 16.75.

[FR Doc. E7-12992 Filed 7-3-07; 8:45 am]

BILLING CODE 4410-BD-P